DEPARTMENT OF TRANSPORTATION

Federal Aviation Administration

14 CFR Part 39

[Docket No. FAA-2013-0939; Directorate Identifier 2013-CE-043-AD; Amendment 39-17881; AD 2013-22-23 R1]

RIN 2120-AA64

Airworthiness Directives; AERMACCHI S.p.A. Airplanes

AGENCY: Federal Aviation Administration (FAA), DOT.

ACTION: Final rule; request for comments.

SUMMARY: We are rescinding Airworthiness Directive (AD) 2013-22-23 for AERMACCHI S.p.A. Models F.260, F.260B, F.260C, F.260D, F.260E, F.260F, S.208, and S.208A airplanes equipped with a Lycoming O-540, IO-540, or AEIO-540 (depending on the airplane model) wide cylinder flange engine with a front crankcase mounted propeller governor. AD 2013-22-23 resulted from mandatory continuing airworthiness information (MCAI) issued by the aviation authority of another country to identify and correct an unsafe condition on an aviation product. We issued the AD to detect and correct improper position of the set screw, which could lead to complete loss of engine oil pressure and result in emergency landing. Since we issued AD 2013-22-23, we have determined the unsafe condition does not exist specific to the airplane design features.

DATES: This AD is effective July 11, 2014. We must receive comments on this AD by August 25, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov by searching for and locating Docket No. FAA-2013-0939; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

On October 31, 2013, we issued AD 2013-22-23, Amendment 39-17655 (78 FR 68357; November 14, 2013). That AD required actions intended to address an unsafe condition on AERMACCHI S.p.A. Models F.260, F.260B, F.260C, F.260D, F.260E, F.260F, S.208, and S.208A airplanes equipped with a Lycoming O-540, IO-540, or AEIO-540 (depending on the airplane configuration) wide cylinder flange engine with a front crankcase mounted propeller.

AD 2013-22-23 (78 FR 68357; November 14, 2013) was based on mandatory continuing airworthiness action (MCAA) by the State of Design of these products. The European Aviation Safety Agency (EASA), which is the Technical Agent for the Member States of the European Community, has issued EASA AD No.: 2012-0228R1, dated November 13, 2012, to address the above situation. You may examine the MCAI on the Internet at http://www.regulations.gov by searching for and locating Docket No. FAA-2013-0939.

Since we issued AD 2013-22-23 (78 FR 68357; November 14, 2013), we determined the unsafe condition does not exist specific to the airplane design features. We will evaluate this condition at the engine level, and we may take rulemaking action in the future.

FAA's Determination

We are issuing this AD because we evaluated all the relevant information and determined the unsafe condition described previously is specific to the engine design feature rather than the specific airplane design feature. We will evaluate this condition further and may take rulemaking action in the future.

AD Requirements

This AD rescinds AD 2013-22-23, Amendment 39-17655 (78 FR 68357; November 14, 2013).

FAA's Determination of the Effective Date

Since we issued AD 2013-22-23 (78 FR 68357; November 14, 2013), we determined the unsafe condition does not exist specific to the airplane design features. We will evaluate this condition at the engine level, and we may take rulemaking action in the future. Therefore, we find that notice and opportunity to comment prior to adoption of this rule are unnecessary and that good cause exists for making this amendment effective in less than 30 days.

Comments Invited

Although this is a final rule that was not preceded by notice and an opportunity for public comment, we invite you to send any written data, views, or arguments about this AD. Send your comments to an address listed under the ADDRESSES section. Include the docket number FAA-2013-0939 and Directorate Identifier 2013-CE- 043-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-22-23, Amendment 39-17655 (78 FR 68357; November 14, 2013) and adding the following new AD:

2013-22-23 R1 AERMACCHI S.p.A.: Amendment 39-17881; Docket No. FAA-2013-0939; Directorate Identifier 2013-CE-043-AD.

(a) Effective Date

This AD is effective July 11, 2014.

(b) Affected ADs

This AD rescinds AD 2013-22-23, Amendment 39-17655 (78 FR 68357; November 14, 2013).

(c) Applicability

This AD applies to the following AERMACCHI S.p.A. airplanes that are certificated in any category:

(1) Models F.260, F.260B, F.260C, F.260D, F.260E, and F.260F airplanes, all serial numbers, that are equipped with either a Lycoming O-540, IO-540, or AEIO-540 wide cylinder flange engine (identified by the suffix “A” or “E” in the serial number) with a front crankcase mounted propeller governor; and

(2) Models S.208 and S.208A airplanes, all serial numbers, that are equipped with a Lycoming O-540 wide cylinder flange engine (identified by the suffix “A” or “E” in the serial number) with a front crankcase mounted propeller governor.

(d) Subject

Joint Aircraft System Component (JASC)/Air Transport Association (ATA) of America Code 71: Powerplant.

Issued in Kansas City, Missouri, on June 19, 2014.
Timothy Smyth,
Acting Manager, Small Airplane Directorate, Aircraft Certification Service.

[FR Doc. 2014-15528 Filed 7-10-14; 8:45 am]

BILLING CODE 4910-13-P